DEPARTMENT OF LABOR

Employment and Training Administration

[NAFTA—6332]

Trus Joist A Weyerhaeuser Business Engineered Wood Products Operations, Stayton, OR; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on July 2, 2002 in response to a petition filed by a company on behalf of workers at Trus Joist a Weyerhaeuser Business, Engineered Wood Products Operations, Stayton, Oregon.

The petitioner has requested that the petition be withdrawn. Consequently, further investigation in this case would serve no purpose, and the investigation has been terminated.

Signed at Washington, DC, this 8th day of October 2002.
Richard Church,
Certifying Officer, Division of Trade Adjustment Assistance.

[FR Doc. 02-26749 Filed 10-21-02; 8:45 am]

BILLING CODE 4510-30-P